DEPARTMENT OF COMMERCE

National Oceanic and Atmospheric Administration

RIN 0648-XC414

Fisheries of the Caribbean, Gulf of Mexico, and South Atlantic; Snapper-Grouper Fishery of the South Atlantic; Exempted Fishing Permit

AGENCY: National Marine Fisheries Service (NMFS), National Oceanic and Atmospheric Administration (NOAA), Commerce.

ACTION: Notice of receipt of an application for an exempted fishing permit; request for comments.

SUMMARY: NMFS announces the receipt of an application for an exempted fishing permit (EFP) from Dr. John R. Gold (Texas A&M University). If granted, the EFP would authorize the applicant to use the captain and crew of a charter vessel to collect a total of 125-150 adult red snapper, south of the Florida Keys and near the Dry Tortugas, FL. Samples would be collected over multiple trips using conventional hook-and-line gear from deep water. Small pieces of fin tissue and otoliths would be collected from the fish for genetic analysis, and age and growth studies. Additional information on the geographic origin, degree of connectivity, and life history of red snapper would provide the South Atlantic Fishery Management Council (Council) and NMFS data that may be used for future management of red snapper stocks in the South Atlantic and Gulf of Mexico (Gulf). Collections would occur from April 1, 2013, to March 31, 2014.

DATES: Comments must be received no later than 5 p.m., eastern time, on March 21, 2013.

ADDRESSES: You may submit comments, identified by RIN 0648-XC414, on the application by any of the following methods:

• Email: nikhil.mehta@noaa.gov. Include in the subject line of the email comment the following document identifier: “John Gold EFP 2013”.

• Mail: Nikhil Mehta, Southeast Regional Office, NMFS, 263 13th Avenue South, St. Petersburg, FL 33701.

The application and related documents are available for review upon written request to any of the above addresses.

FOR FURTHER INFORMATION CONTACT: Nikhil Mehta, 727-824-5305; email: Nikhil.mehta@noaa.gov.

SUPPLEMENTARY INFORMATION: The EFP is requested under the authority of the Magnuson-Stevens Fishery Conservation and Management Act (16 U.S.C. 1801 et seq.), and regulations at 50 CFR 600.745(b) concerning exempted fishing.

The described research is part of a Marine Fisheries Initiative funded study titled, “Stock structure, connectivity, and effective population size of red snapper (Lutjanus campechanus) in U.S. waters of the Gulf of Mexico.” Objectives of the study are to: (i) Further refine a geographic stock model in areas from southern Texas to the southwest coast of Florida; (ii) quantify historical and present connectivity (genetic migration) among sampled locations in the Gulf and South Atlantic; and (iii) utilize recently developed algorithms to estimate the effective number of breeding adult red snapper at each sample location.

If granted, the EFP would authorize the applicant and the captain and crew of a charter vessel to collect a total of 125-150 red snapper using conventional hook-and-line gear from deep water (200-240 ft (61-73 m)). Red snapper would be collected over multiple 2-3 day trips south of the Florida Keys and near the Dry Tortugas, FL. The fish would be placed on ice and the fins removed at the end of each fishing day. Small pieces of red snapper fin tissue would be placed into sample tubes containing a non-flammable, non-explosive fixative. Upon reaching the dock, all the fish and tubes with fin clips would be collected by a NMFS port sampler. After a total of 125-150 red snapper have been sampled, the fin clips would be shipped to the laboratory at Texas A&M University in College Station, TX, for genetic analysis. Otoliths would also be removed from the collected red snapper by the NMFS port sampler to facilitate age and growth studies.

The proposed collection for scientific research involves activities that would otherwise be prohibited by regulations at 50 CFR part 622, as they pertain to red snapper managed by the Council. The EFP would exempt this research activity from Federal regulations at § 622.32(b)(3)(vi) (Prohibited and limited harvest species) and § 622.37(e)(v) (Size limits).

NMFS finds this application warrants further consideration. Possible conditions the agency may impose on this permit, if it is granted, include but are not limited to, a prohibition of conducting research within marine protected areas, marine sanctuaries, or special management zones, without additional authorization. A report on the research would be due at the end of the collection period, to be submitted to NMFS and reviewed by the Council.

A final decision on issuance of the EFP will depend on NMFS' review of public comments received on the application, consultations with appropriate fishery management agencies of the affected states, the Council, and the U.S. Coast Guard, as well as a determination that it is consistent with all applicable laws.

Authority: 16 U.S.C. 1801 et seq.

Dated: February 13, 2013.
Kara Meckley,
Acting Deputy Director, Office of Sustainable Fisheries, National Marine Fisheries Service.

[FR Doc. 2013-03777 Filed 2-15-13; 8:45 am]

BILLING CODE 3510-22-P